SMALL BUSINESS ADMINISTRATION

[Declaration of Disaster #3363]

Commonwealth of Kentucky

Scott County and the contiguous counties of Bourbon, Fayette, Franklin, Harrison, Grant, Owen and Woodford in the Commonwealth of Kentucky constitute a disaster area due to damages caused by severe thunderstorms that occurred on July 22, 2001, and continued through July 27, 2001. Applications for loans for physical damage as a result of this disaster may be filed until the close of business on October 29, 2001 and for economic injury until the close of business on May 29, 2002 at the address listed below or other locally announced locations: U.S. Small Business Administration, Disaster Area 2 Office, One Baltimore Place, Suite 300, Atlanta, GA 30308.

The interest rates are:

| Percent
For Physical Damage:
Homeowners With Credit Available Elsewhere | 6.625
Homeowners Without Credit Available Elsewhere | 3.312
Businesses With Credit Available Elesewhere | 8.000
Businesses and Non-Profit Organizations Without Credit Available Elsewhere | 4.000
Others (including Non-Profit Organizations) With Credit Available Elsewhere | 7.125
For Economic Injury:
Businesses and Small Agricultural Cooperatives Without Credit Available Elsewhere | 4.000

The number assigned to this disaster for physical damage is 336311 and for economic injury the number assigned is 9M4600.

(Catalog of Federal Domestic Assistance Program Nos. 59002 and 59008)
Dated: August 29, 2001.
Hector V. Barreto,
Administrator.

[FR Doc. 01-22968 Filed 9-12-01; 8:45 am]

BILLING CODE 8025-01-P